FEDERAL RESERVE SYSTEM

Proposed Agency Information Collection Activities; Comment Request

AGENCY: Board of Governors of the Federal Reserve System.

SUMMARY: Under authority delegated to the Board of Governors of the Federal Reserve System (Board) by the Office of Management and Budget (OMB) under the Paperwork Reduction Act (PRA), the Board is requesting comment on four surveys related to its obligations under section 920(a) of the Electronic Fund Transfer Act (EFTA). Two surveys request information about the prevalence of the use of general-use prepaid cards in federal, state, and local government-administered payment programs and the interchange and cardholder fees charged with respect to this use. The Board is proposing to conduct these surveys to collect information necessary to meet its obligation under EFTA section 920(a)(7)(D) to submit an annual report to the Congress on such programs and fees. One of these surveys will require information from issuers of government-administered, general-use prepaid cards, in accordance with the Board's information collection authority in section 920(a)(3)(B) of the EFTA. The other survey, which is voluntary, will be directed to state governments that administer general-use prepaid cards.

The Board is also requesting comment on two mandatory surveys, one for debit card issuers and one for payment card networks, that will collect information on costs, debit card usage, and interchange fees. These surveys will enable the Board to meet its obligation under EFTA section 920(a)(3) to disclose aggregate or summary information concerning the costs incurred and interchange fees charged or received by issuers or payment card networks in connection with the authorization, clearance or settlement of electronic debit transactions.

DATES: Comments must be submitted on or before November 14, 2011.

ADDRESSES: You may submit comments, identified by FR 3063a or b (government-administered, general-use prepaid cards), FR 3064a (debit card issuers), or FR 3064b (payment card networks), by any of the following methods:

• Agency Web Site: http://www.federalreserve.gov. Follow the instructions for submitting comments at http://www.federalreserve.gov/generalinfo/foia/ProposedRegs.cfm.

• Federal eRulemaking Portal: http://www.regulations.gov. Follow the instructions for submitting comments.

• E-mail: regs.comments@federalreserve.gov. Include the docket number in the subject line of the message.

• Fax: 202/452-3819 or 202/452-3102.

• Mail: Jennifer J. Johnson, Secretary, Board of Governors of the Federal Reserve System, 20th Street and Constitution Avenue, NW., Washington, DC 20551.

Additionally, commenters should send a copy of their comments to the OMB Desk Officer, Shagufta Ahmed, by mail to Office of Information and Regulatory Affairs, Office of Management and Budget, New Executive Office Building, Room 10235, 725 17th Street, NW., Washington, DC 20503 or by fax to 202-395-6974.

All public comments are available on the Board's Web site at http://www.federalreserve.gov/generalinfo/foia/ProposedRegs.cfm as submitted, unless modified for technical reasons. Accordingly, comments will not be edited to remove any identifying or contact information. Public comments may also be viewed electronically or in paper form in Room MP-500 of the Board's Martin Building (20th and C Streets, NW.) between 9 a.m. and 5 p.m. on weekdays.

FOR FURTHER INFORMATION CONTACT: Jennifer Williams, Senior Financial Services Analyst (202-452-2446), Division of Reserve Bank Operations and Payment Systems, Board of Governors of the Federal Reserve System, Washington, DC 20551, for FR 3063a or b (government-administered, general-use prepaid cards).

Edith Collis, Senior Financial Services Analyst (202-452-3638), Division of Reserve Bank Operations and Payment Systems, Board of Governors of the Federal Reserve System, Washington, DC 20551, for FR 3064a (debit card issuers).

Linda Healey, Senior Financial Services Analyst (202-452-5274), Division of Reserve Bank Operations and Payment Systems, Board of Governors of the Federal Reserve System, Washington, DC 20551, for FR 3064b (payment card networks).

A copy of the PRA OMB submission, including the proposed surveys, supporting statement, and other documentation will be placed into OMB's public docket files, once approved. These documents will also be made available on the Board's public Web site at: http://www.federalreserve.gov/boarddocs/reportforms/review.cfm or may be requested from the agency clearance officer, whose name appears below.

Cynthia Ayouch, Federal Reserve Board Clearance Officer (202-452-3829), Division of Research and Statistics, Board of Governors of the Federal Reserve System, Washington, DC 20551. Telecommunications Device for the Deaf (TDD) users may contact (202-263-4869), Board of Governors of the Federal Reserve System, Washington, DC 20551.

SUPPLEMENTARY INFORMATION:

Background

On June 15, 1984, the OMB delegated to the Board its approval authority under the PRA, pursuant to 5 CFR 1320.16, to approve of and assign OMB control numbers to collection of information requests and requirements conducted or sponsored by the Board under conditions set forth in 5 CFR Part 1320 Appendix A.1. Board-approved collections of information are incorporated into the official OMB inventory of currently approved collections of information. Copies of the PRA submission, supporting statements and approved collection of information instruments are placed into OMB's public docket files. The Board may not conduct or sponsor, and a respondent is not required to respond to, an information collection that has been extended, revised, or implemented on or after October 1, 1995, unless it displays a currently valid OMB control number.

Request for Comment on Information Collection Proposals

The following information collections, which are being handled under OMB delegated authority, have received initial Board approval and are hereby published for comment. After the comment deadline, the proposed information collections, along with an analysis of comments and recommendations received, will be submitted to the Board for final approval under this delegated authority. The Board requests comment on all aspects of the proposed surveys, as discussed further below, including the following:

a. Whether the proposed collection of information is necessary for the proper performance of the Board's functions, including whether the information has practical utility;

b. The accuracy of the Board's estimate of the burden of the proposed information collection, including the validity of the methodology and assumptions used;

c. Ways to enhance the quality, utility, and clarity of the information to be collected; and

d. Ways to minimize the burden of information collection on respondents, including through the use of automated collection techniques or other forms of information technology.

Proposal To Approve Under OMB Delegated Authority the Implementation of the Following Information Collections

1. Report title: Government-administered, General-use Prepaid Card Surveys.¹

¹ The proposed issuer and state government surveys, supporting statement, and other documentation are available on the Board's public Web site at: http://www.federalreserve.gov/boarddocs/reportforms/review.cfm.

Agency form number: FR 3063a and FR 3063b.

OMB control number: 7100- to be assigned.

Frequency: Annual.

Reporters: Issuers of government-administered, general-use prepaid cards (FR 3063a) and state governments that administer general-use prepaid cards (FR 3063b).

Estimated annual reporting hours: FR 3063a: 1,000 hours; FR 3063b: 900 hours.

Estimated average hours per response: FR 3063a: 50 hours; FR 3063b: 15 hours.

Number of respondents: FR 3063a: 20; FR 3063b: 60.

General description of report: These information collections are authorized by section 920(a) of the EFTA, which was added by section 1075(a) of the Dodd-Frank Wall Street Reform and Consumer Protection Act (Dodd-Frank Act). 15 U.S.C. 1693o-2. EFTA Section 920(a) requires the Board to submit an annual report to the Congress on the prevalence of the use of general-use prepaid cards in federal, state, or local government-administered payment programs and the interchange transaction fees and card-holder fees charged with respect to the use of such general-use prepaid cards. 15 U.S.C. 1693o-2(a)(7)(D). EFTA Section 920(a) also provides the Board with authority to require issuers to provide information to enable the Board to carry out the provisions of EFTA Section 920(a). 15 U.S.C. 1693o-2(a)(3)(B).

The obligation of issuers to respond to the issuer survey (FR 3063a) is mandatory. Some of the data collected by FR 3063a may be kept confidential under exemption (b)(4) of the Freedom of Information Act (FOIA), which exempts from disclosure “trade secrets and commercial or financial information obtained from a person and privileged or confidential.” 5 U.S.C. 552(b)(4). Information collected under FR 3063a can be kept confidential under exemption (b)(4) if the release of data would cause substantial harm to the competitive position of the issuer.

The obligation of state governments to respond to the government survey (FR 3063b) is voluntary. The Board anticipates that all of the information collected by FR 3063b would be publicly available information and would not be given confidential treatment.

The Board specifically requests comment on the following:

a. What information collected by the issuer survey (FR 3063a) would consist of trade secrets or commercial or financial information;

b. Whether information collected by the government survey (FR 3063b) is publicly available information; and

c. Whether there are issuers of government-administered, general-use prepaid cards that are not depository institutions, and, if so, should the depository institution holding the insured deposits underlying the cards be required to report on behalf of those issuers.

Abstract: Section 920 of the EFTA provides that the Board shall provide annually a report to the Congress regarding the prevalence of the use of general-use prepaid cards in federal, state, and local government-administered payment programs, and the interchange and cardholder fees charged with respect to this use. Section 920(a) also provides the Board with authority to require card issuers to respond to information requests as may be necessary to carry out the provisions of the section.

On March 24, 2011, the Board distributed two surveys to industry participants (a depository institution survey and a state government survey) designed to assist the Board in meeting the reporting requirements in section 920(a) related to the prevalence of the use of general-use prepaid cards in federal, state, or local government-administered payment programs and associated fees.² In response to comments and survey submissions from issuers and governments, the Board developed the FR 3063a and 3063b surveys, as described below, which would replace the surveys distributed in March 2011.

² The 2011 depository institution and state government surveys were conducted via the Ad Hoc Payment System Surveys (FR 3054a; OMB No. 7100-0332).

Current Actions: The Board proposes to implement the issuer survey (FR 3063a) and the government survey (FR 3063b). Responding to the issuer survey (FR 3063a) would be required for approximately 20 depository institutions that issue general-use prepaid cards for federal, state, or local government-administered payment programs. The survey would request information on cards associated with accounts domiciled in the United States, District of Columbia, and U.S. territories.³

³ U.S. territories include American Samoa, Federal States of Micronesia, Guam, Midway Islands, Northern Mariana Islands, Puerto Rico, Republic of Palau, Republic of the Marshall Islands, and U.S. Virgin Islands.

In general, the issuer survey (FR 3063a) would collect information separately for each government-administered program for which the depository institution is the issuer of general-use prepaid cards as well as in the aggregate for all programs. The issuer survey would collect information on card programs using two types of authentication mechanisms: dual-message transactions (those generally requiring a signature) and single-message transactions (those generally requiring the input of a personal identification number (PIN)).⁴ The first reporting period would cover the calendar year 2011, collected as of December 31, 2011.

⁴ In dual-message transactions, authorization information is carried in one message and clearing information is carried in a separate message. In single-message transactions, authorization and clearing information is carried in one message. General-use prepaid cards may use either method (although dual-message transactions are more common) and may be reloadable or non-reloadable.

The Board specifically requests comment on the following:

a. The best terms to use in identifying types of authentication mechanisms (single-message and dual-message versus PIN and signature) given that not all dual-message transactions require a signature and not all single-message transactions require a PIN.

The issuer survey would comprise 10 sections:

I. Respondent Information: Respondents would provide the name of the card issuer covered in the response; and the contact person(s) name, survey section for which they are responsible, e-mail, and phone number.

II. Card program information: Respondents would report summary information on card programs covered in the response, whether the response covers federal, state, or local programs, jurisdiction,⁵ sponsoring government agency(ies), a description of payment type, recipients receiving payments on prepaid cards, and recipients receiving payments by all payment methods.

⁵ Jurisdiction refers to the geographic area in which the general-use prepaid card program is administered.

The Board specifically requests comment on the following:

a. The ability of issuers to provide the total number of recipients receiving payments, regardless of payment method.

III. Government-Administered Prepaid Cards: Respondents would report summary information on the number of cards outstanding, and the allocation of cards outstanding between cards that can be used on both dual-message (signature) and single-message (PIN) networks.

IV. Funding: Respondents would report the value of funds loaded into prepaid card accounts, funds outstanding on prepaid card accounts, and all funds disbursed by all payment methods.

The Board specifically requests comment on the following:

a. The ability of issuers to provide the total value of all funds disbursed, regardless of payment method.

b. Whether any funding patterns during the month may change significantly an issuer's response depending on the as-of date requested. Note—The draft survey requests outstanding funds at the end of the month.

V. ATM Transactions: Respondents would report summary information on the number of cards outstanding at year-end that can be used to make ATM cash withdrawals, the volume and value of ATM cash withdrawals, and the ATM fees charged for withdrawals by ATM operators at nonproprietary ATMs.

VI. Purchase Transactions: Respondents would report summary information on the volume and value of settled purchase transactions and the volume and value of settled purchase transactions for dual-message (signature) transactions and single-message (PIN) transactions.

VII. Interchange Fees: Respondents would report interchange fee revenues received on settled purchase transactions and the allocation of the interchange fee revenues received on settled purchase transactions ⁶ for dual-message (signature) transactions and single-message (PIN) transactions.

⁶ A settled purchase transaction refers to a debit card transaction that has been settled, excluding transactions that are pre-authorizations, denials, adjustments, or returns.

VIII. Fees Paid by Issuers: Respondents would report the fees paid on nonproprietary ATM cash withdrawals and the fees paid on over-the-counter cash withdrawals at other banks' teller stations.

The Board specifically requests comment on the following:

a. Whether fees paid for over-the-counter at-bank (teller) cash withdrawals should be included in the survey.

IX. Revenues From Cardholder Fees: Respondents would provide total revenues received on all fees charged to cardholders and the allocation of all fees charged to cardholders between routine purchase transaction fees, monthly fees, balance inquiry fees, ATM fees, over-the-counter at-bank (teller) fees, account servicing fees, penalty fees, and all other fees.

X. Fees Assessed to Cardholders: Respondents would provide summary information on fees assessed to cardholders by the issuer, including routine purchase transaction fees, monthly fees, balance inquiry fees, ATM fees charged to cardholders, over-the-counter at-bank (teller) fees, account servicing fees, penalty fees, and all other fees.

Responding to the government survey (FR 3063b) would be voluntary for approximately 60 government entities, including the states, the District of Columbia, and U.S. territories (collectively “state governments”). The survey would collect information about the prevalence of use of general-use prepaid cards in federal, state, and local government-administered payment programs.⁷ The first reporting period would cover the calendar year 2011, collected as of December 31, 2011.

⁷ See footnote 3.

The government survey would comprise four sections:

I. Respondent Information: Respondents would identify the government agency (including federal, state or other jurisdiction) for which they are responding; and provide the contact person(s) name, survey section for which they are responsible, e-mail, and phone number.

II. Program information: Respondents would report summary information on card programs covered in the response, whether the response covers a federal, state, or local program, sponsoring government agency(ies), card-issuer(s), a description of payment type, the number of recipients receiving payments on prepaid cards, and the number of recipients receiving payments by all payment methods.

III. Cards: Respondents would report the number of cards outstanding.

IV. Funding: Respondents would report the value of funds loaded into prepaid card accounts and the value of all funds paid by all payment methods.

The issuer survey (FR 3063a) and the government survey (FR 3063b) would be made available online by mid-February 2012 and would request that the surveys be completed and returned to the Board within 30 calendar days.

The Board specifically requests comment on the following:

a. Whether 30 calendar days allows sufficient time for respondents to complete the proposed surveys.

2. Report title: Interchange Transaction Fees Surveys.⁸

⁸ The proposed debit card issuer and payment card network surveys, supporting statement, and other documentation are available on the Board's public Web site at: http://www.federalreserve.gov/boarddocs/reportforms/review.cfm.

Agency form number: FR 3064a and FR 3064b.

OMB control number: 7100—to be assigned.

Frequency: FR 3064a—Biennial; FR 3064b—Annual.

Reporters: Issuers of debit cards (FR 3064a) and payment card networks (FR 3064b).

Estimated annual reporting hours: FR 3064a: 46,400 hours; FR 3064b: 425 hours.

Estimated average hours per response: FR 3064a: 80 hours; FR 3064b: 25 hours.

Number of respondents: FR 3064a: 580; FR 3064b: 17.

General description of report: These information collections are authorized by section 920(a) of the EFTA, which was added by section 1075(a) of the Dodd-Frank Act. 15 U.S.C. 1693o-2. This section requires the Board to (on a biennial basis) disclose aggregate or summary information concerning the costs incurred and interchange transactions fees charged or received, by issuers or payment card networks in connection with the authorization, clearance, or settlement of electronic debit transaction as the Board considers appropriate and in the public interest. 15 U.S.C. 1693o-2(a)(3)(B). It also provides the Board with authority to require issuers (or agents of issuers) and payment card networks to provide information to enable the Board to carry out the provisions of the section.

The obligation to respond to these surveys is mandatory. In accordance with the statutory requirement, the Board will release aggregate or summary information from the survey responses. Some of the data collected by the surveys may be kept confidential under exemption (b)(4) of FOIA, which exempts from disclosure “trade secrets and commercial or financial information obtained from a person and privileged or confidential.” 5 U.S.C. 552(b)(4). Information collected under the surveys can be kept confidential under exemption (b)(4) if the release of data would cause substantial harm to the competitive position of the respondent.

Abstract: Section 920(a)(3) of the EFTA provides that the Board shall at least on a biennial basis disclose aggregate or summary information concerning the costs incurred, and interchange transaction fees charged or received, by issuers or payment card networks in connection with debit card transactions. 15 U.S.C. 1693o-2(a)(3)(B). When the Board adopted Regulation II setting debit card interchange fee standards, the Board's rulemaking stated that information would be gathered from payment card networks annually regarding interchange fees that are received by covered and exempt issuers.⁹

⁹ Regulation II—Debit Card Interchange Fees and Routing (76 FR 43394 (July 20, 2011)).

On September 13, 2010, the Board distributed three surveys to industry participants (a card issuer survey, a payment card network survey, and a merchant acquirer/processor survey) designed to gather information to assist the Board in developing Regulation II. Industry participants, including payment card networks, trade groups, and individual firms from both the banking industry and merchant community, commented on preliminary versions of the 2010 issuer and network surveys, through both written submissions and a series of drop-in calls. In response to the comments, the two surveys were modified, as appropriate.¹⁰ The implementation of the FR 3064a and 3064b, as described below, would replace the 2010 surveys.

¹⁰ The 2010 issuer and network surveys were conducted under the emergency clearance provision of the OMB's regulation, Interchange Transaction Fees Survey (FR 3062; OMB No. 7100-0329).

Current Actions: The Board proposes to implement the debit card issuer survey (FR 3064a) and the payment card network survey (FR 3064b). The debit card issuer survey would be required for each debit card issuer that, together with its affiliates, has assets of $10 billion or more. The survey would request information on accounts and cards associated with accounts domiciled in the United States, the District of Columbia, and U.S. territories.¹¹

¹¹ See footnote 3.

The Board specifically requests comment on the following:

a. The feasibility of requiring each chartered entity that issues debit cards to complete a separate survey rather than requiring a holding company to complete one survey for all its chartered entities, as was done in the 2010 card issuer survey (12 CFR 235.8(b)).

In general, the debit card issuer survey (FR 3064a) would collect information on card programs that use two types of authentication mechanisms: Dual-message transactions (those generally requiring a signature) and single-message transactions (those generally requiring the input of a personal identification number (PIN)). Both programs include general-use prepaid card transactions.¹² The first reporting period would cover the calendar year 2011, collected as of December 31, 2011. If certain costs for a card program are shared with other card programs, respondents would be asked to allocate costs to a particular card program based on transaction volume.

¹² In the 2010 debit card issuer survey, general-use prepaid cards were treated separately as their own program and issuers reported much higher costs for the authorization, clearance, and settlement of prepaid card transactions than for other debit card transactions. However, the authorization, clearance, and settlement process for prepaid card transactions is essentially the same as it is for other debit card transactions. The higher costs reported under the 2010 survey may have resulted from the costs of prepaid account maintenance, costs for loading funds onto the cards, and costs for other activities that are not considered to be tied to the authorization, clearance, and settlement of prepaid card transactions.

The Board specifically requests comment on the following:

a. The best terms to use in identifying types of processing (single-message and dual-message versus PIN and signature) given that not all dual-message transactions require a signature and not all single-message transactions require a PIN.

b. Whether issuers should report general-use prepaid card data combined with other transaction data related to single- or dual-message systems (and if so, whether they would be able to do so) or should report general-use prepaid card activity separately.

The debit card issuer survey would comprise four sections:

I. Respondent Information: Respondents would provide the name of the debit card issuer covered in the response and the contact person(s) name, section of the survey for which they are responsible, e-mail, and phone number. Respondents also would report whether general-use prepaid cards are issued.

II. All Debit Card Transactions (including general-use prepaid card transactions): Respondents would report summary information for debit card (including general-use prepaid card) transaction volume and value; chargebacks to acquirers; costs of authorization, clearance, and settlement; payments and incentives paid by networks to issuers; costs for fraud prevention and data security; interchange fee revenue; fraudulent transactions; and fraud losses.

The Board specifically requests comment on the following:

a. Whether the guidance provided in the proposed survey is sufficient for issuers to report authorization, clearing, and settlement costs;

b. The usefulness of including a checklist of fraud prevention activities and, if so, which fraud prevention activities should be included in the checklist for the 2012 survey. If a checklist is provided in the survey, are the activities proposed in the draft survey (transaction monitoring, merchant blocking, data security, and PIN customization) the right categories or are other categories more meaningful? If a checklist is provided in the survey, the listed activities could be updated over time based on “other” activities reported.

c. The issuers' ability to allocate payments and incentives as specified and whether other major categories of payments and incentives should be included.

d. The issuers' ability to report the subset of customer service costs associated with customer inquiries regarding particular debit card transactions (as opposed to customer inquiries regarding the account, the debit card more generally, or credit cards/ATM cards).

III. All Single-Message (PIN) Debit Card Transactions (including general-use prepaid card transactions): Respondents would submit data for the same set of questions asked in Section II above, but specifically about single-message debit card programs, including general-use prepaid cards.

IV. All Dual-Message (Signature) Debit Card Transactions (including general-use prepaid card transactions): Respondents would submit data for the same set of questions asked in Section II above, but specifically about dual-message debit card programs, including general-use prepaid cards.

The payment card network survey (FR 3064b) would require payment card networks to submit information about debit card (including general-use prepaid card) transaction volume and value; interchange fees; other network fees; and incentives and discounts paid to acquirers, merchants, and issuers.¹³ The first reporting period would cover the calendar year 2011, collected as of December 31, 2011.

¹³ See 12 CFR 235.8.

The network survey would comprise two sections: ¹⁴

¹⁴ Entities that have both single-message and dual-message networks will be asked to report data for each program separately.

I. Respondent Information: Respondents would identify the network covered in the response and provide the contact person(s) name, section of the survey for which they are responsible, e-mail, and phone number. Respondents also would report whether the payment card network is a single-message (PIN) or dual-message (signature) network, whether the payment card network offers a tiered interchange fee rate schedule that differentiates between exempt issuers and non-exempt issuers, and the number of merchant locations that accept debit cards whose transactions can be processed by the payment card network.

II. Debit Card Transactions (including general-use prepaid card transactions): Respondents would report the volume and value of settled purchase transactions; as well as information related to card-present versus card-not-present transactions; general-use prepaid card versus non-general-use prepaid card transactions; general-use prepaid card transactions exempt from the interchange fee standards in Regulation II versus general-use prepaid card transactions that are not exempt; transactions processed for small issuers that are exempt from the interchange fee standards versus those processed for non-exempt issuers; pre- and post-effective date transactions processed for exempt and non-exempt debit card issuers; chargebacks and returns to merchants; the value of interchange fees; the value of network fees; and payments and incentives paid by networks to acquirers, merchants, and issuers.

The Board specifically requests comment on the following:

a. The payment card networks' ability to identify separately general-use prepaid card transactions from other debit card transactions.

b. Whether the networks can provide data for exempt and non-exempt issuers that compares information for three time periods: January 1 to June 30, 2011 (during which all transactions would be considered exempt); July 1 to September 30, 2011 (during which all transactions could be considered exempt, but some networks may begin to distinguish between exempt and non-exempt issuers, if such networks are offering a tiered interchange fee schedule); and October 1, 2011 to December 31, 2011 (during which all networks that provide a tiered interchange fee schedule would distinguish between exempt and non-exempt issuers).

The Board would make the payment card network survey available online by mid-January 2012 and would request that the survey be completed and submitted to the Board within 30 calendar days. The debit card issuer survey would be made available by mid-February 2012 and would request that the survey be completed and submitted to the Board within 60 calendar days.¹⁵

¹⁵ In subsequent years, the Board anticipates that both the debit card issuer and payment card network surveys would be made available by mid-January.

By order of the Board of Governors of the Federal Reserve System, September 12, 2011.
Jennifer J. Johnson,
Secretary of the Board.

[FR Doc. 2011-23614 Filed 9-14-11; 8:45 am]

BILLING CODE 6210-01-P